DEPARTMENT OF ENERGY

Federal Energy Regulatory Commission

Combined Notice of Filings #1

Take notice that the Commission received the following electric rate filings:

Docket Numbers: ER10-3079-013; ER10-3078-004; ER11-3861-014.

Applicants: Tyr Energy, LLC, Commonwealth Chesapeake Company, LLC, Empire Generating Co, LLC.

Description: Updated Market Power Analysis for the Northeast Region of Tyr Energy, LLC, et al. under ER10-3079, et al.

Filed Date: 6/23/17.

Accession Number: 20170623-5083.

Comments Due: 5 p.m. ET 8/22/17.

Docket Numbers: ER10-3145-008; ER10-1728-008; ER10-1800-009; ER10-3116-008; ER10-3120-008; ER10-3128-008; ER10-3136-008; ER11-2036-008; ER11-2701-010; ER13-1544-005; ER16-930-002.

Applicants: AES Alamitos, LLC, AES Energy Storage, LLC, AES Huntington Beach, L.L.C., AES Laurel Mountain, LLC, AES ES Tait, LLC, AES Redondo Beach, L.L.C., Indianapolis Power & Light Company, Mountain View Power Partners, LLC, Mountain View Power Partners IV, LLC, The Dayton Power and Light Company, AES Ohio Generation, LLC.

Description: Supplement to December 21, 2016 Triennial Market Power Analysis for Northeast Region of AES MBR Affiliates; also filed was an Amended Supplement to December 21, 2016 Triennial Market Power Analysis for Northeast Region of AES MBR Affiliates.

Filed Dates: 6/6/17; 6/21/17.

Accession Number: 20170606-5163; 20170621-5138.

Comments Due: 5 p.m. ET 7/12/17.

Docket Numbers: ER17-1888-000.

Applicants: Midcontinent Independent System Operator, Inc.

Description: § 205(d) Rate Filing: 2017-06-22_SA 3023 Air Liquide-Entergy GIA (Project QF) to be effective 6/22/2017.

Filed Date: 6/22/17.

Accession Number: 20170622-5153.

Comments Due: 5 p.m. ET 7/13/17.

Docket Numbers: ER17-1889-000.

Applicants: Midcontinent Independent System Operator, Inc.

Description: § 205(d) Rate Filing: 2017-06-22_SA 758 Termination of ATC-Wisconsin River GTIA to be effective 8/22/2017.

Filed Date: 6/22/17.

Accession Number: 20170622-5156.

Comments Due: 5 p.m. ET 7/13/17.

Docket Numbers: ER17-1890-000.

Applicants: ITC Midwest LLC.

Description: § 205(d) Rate Filing: Filing of Joint Use Pole Agreement with Dairyland to be effective 8/22/2017.

Filed Date: 6/22/17.

Accession Number: 20170622-5176.

Comments Due: 5 p.m. ET 7/13/17.

Docket Numbers: ER17-1891-000.

Applicants: Summit Farms Solar, LLC.

Description: Compliance filing: Compliance Filing—Addition of Docket No. to MBR Tariff to be effective 6/23/2017.

Filed Date: 6/22/17.

Accession Number: 20170622-5186.

Comments Due: 5 p.m. ET 7/13/17.

Docket Numbers: ER17-1892-000.

Applicants: PacifiCorp.

Description: Tariff Cancellation: Termination of PAC Energy Carbon Decommissioning Construct Agmt Rev 2 to be effective 6/26/2017.

Filed Date: 6/23/17.

Accession Number: 20170623-5094.

Comments Due: 5 p.m. ET 7/14/17.

Docket Numbers: ER17-1894-000.

Applicants: PJM Interconnection, L.L.C.

Description: § 205(d) Rate Filing: Original Service Agreement No. 4730, Queue Position #AC1-039 to be effective 5/31/2017.

Filed Date: 6/23/17.

Accession Number: 20170623-5110.

Comments Due: 5 p.m. ET 7/14/17.

Docket Numbers: ER17-1895-000.

Applicants: Southwestern Electric Power Company.

Description: § 205(d) Rate Filing: SWEPCO-Minden PSA Amendment T&D Losses to be effective 8/1/2016.

Filed Date: 6/23/17.

Accession Number: 20170623-5111.

Comments Due: 5 p.m. ET 7/14/17.

Docket Numbers: ER17-1896-000.

Applicants: Midcontinent Independent System Operator, Inc.

Description: § 205(d) Rate Filing: 2017-06-23_SA 3022 Trigen-Ameren GIA (Project Trigen) to be effective 6/23/2017.

Filed Date: 6/23/17.

Accession Number: 20170623-5143.

Comments Due: 5 p.m. ET 7/14/17.

Take notice that the Commission received the following electric securities filings:

Docket Numbers: ES17-38-000.

Applicants: Midcontinent Independent System Operator, Inc.

Description: Application of Midcontinent Independent System Operator, Inc. to Issue Securities Under Section 204 of the Federal Power Act.

Filed Date: 6/23/17.

Accession Number: 20170623-5099.

Comments Due: 5 p.m. ET 7/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2017.
Nathaniel J. Davis, Sr.,
Deputy Secretary.

[FR Doc. 2017-13597 Filed 6-28-17; 8:45 am]

BILLING CODE 6717-01-P